ENVIRONMENTAL PROTECTION AGENCY

[FRL-7871-8]

Notice of Meeting of the EPA's Children's Health Protection Advisory Committee (CHPAC)

AGENCY: Environmental Protection Agency (EPA).

ACTION: Notice of meeting.

SUMMARY: Pursuant to the provisions of the Federal Advisory Committee Act, Public Law 92-463, notice is hereby given that the next meeting of the Children's Health Protection Advisory Committee (CHPAC) will be held February 22-24, 2005 at the Hotel Washington, Washington, DC. The CHPAC was created to advise the Environmental Protection Agency on science, regulations, and other issues relating to children's environmental health.

DATES: The Science and Regulatory Work Groups will meet Tuesday, February 22; Plenary sessions will take place Wednesday, February 23 and Thursday, February 24.

ADDRESSES: Hotel Washington, 515 15th Street, NW., Washington, DC.

FOR FURTHER INFORMATION CONTACT: Contact Joanne Rodman, Office of Children's Health Protection, USEPA, MC 1107A, 1200 Pennsylvania Avenue, NW., Washington, DC 20460, (202) 564-2188, rodman.joanne@epa.gov.

SUPPLEMENTARY INFORMATION: The meetings of the CHPAC are open to the public. The Science and Regulatory Work Groups will meet Tuesday, February 22 from 9 a.m. to 5 p.m. The plenary CHPAC will meet on Wednesday, February 23 from 9 a.m. to 5 p.m., with a public comment period at 5:15 p.m., and on Thursday, February 24 from 8:45 a.m. to 12 p.m.

The plenary session will open with introductions and a review of the agenda and objectives for the meeting. Agenda items include highlights of the Office of Children's Health Protection (OCHP) activities and a presentation on assessing cancer risks from early life exposure. Other potential agenda items include a panel discussion of the NAS review of EPA's Perchlorate Risk Assessment, and a presentation on PBDE.

Dated: February 2, 2005.
Elizabeth H. Blackburn,
Acting Designated Federal Official.

U.S. Environmental Protection Agency

Children's Health Protection Advisory Committee, Hotel Washington, 515 15th Street, NW., Washington, DC 20004-1099, February 22-24, 2005

Draft Agenda

Tuesday, February 22, 2005

Work Group Meetings

Wednesday, February 23, 2005

Plenary Session

9:00 Welcome, Introductions, Review Meeting Agenda

9:15 Highlights of Recent OCHP Activities

9:45 Presentation: Cancer Guidelines Update

10:15 Break

10:30 Science and Regulatory Workgroup Reports

12:00 Lunch (on your own)

1:30 Panel Discussion: NAS Review of EPA's Perchlorate Risk Assessment

3:00 Break

3:30 Presentation and Discussion: OCHP Strategic Plan

5:15 Public Comment

Thursday, February 24, 2005

8:45 Discussion of Day One

9:00 Presentation: PBDE Update

10:15 Break

10:45 Presentation: Update on EPA's Response to CHPAC Mercury Comment Letters

11:45 Wrap Up/Next Steps

[FR Doc. 05-2611 Filed 2-9-05; 8:45 am]

BILLING CODE 6560-50-P